DEPARTMENT OF HEALTH AND HUMAN SERVICES

National Institutes of Health

Center for Scientific Review; Amended Notice of Meeting

Notice is hereby given of a change in the meeting of the Center for Scientific Review Special Emphasis Panel Member Conflict: Clinical Care and Health Interventions, November 20, 2023, 9:00 a.m.-8:00 p.m., National Institutes of Health, 6701 Rockledge Drive, Bethesda, MD 20892, which was published in the Federal Register on September 29, 2023, 88 FR 67329 Doc 2023-21352.

This meeting is being amended to start on November 15, 2023, from 9:30 a.m.-2:30 p.m. The meeting is closed to the public.

Dated: October 16, 2023.
Miguelina Perez,
Program Analyst, Office of Federal Advisory Committee Policy.

[FR Doc. 2023-23233 Filed 10-19-23; 8:45 am]

BILLING CODE 4140-01-P